DEPARTMENT OF ENERGY

Federal Energy Regulatory Commission

[Project No. 906-006]

Virginia Electric & Power Co.; Notice of Application Tendered for Filing With the Commission, Soliciting Additional Study Requests, and Establishing Procedural Schedule for Relicensing and a Deadline for Submission of Final Amendments

June 26, 2006.

Take notice that the following hydroelectric application has been filed with the Commission and is available for public inspection.

a. Type of Application: New Major License.

b. Project No: 906-006.

c. Date Filed: June 12, 2006.

d. Applicant: Virginia Electric and Power Company, doing business as Dominion Virginia Power.

e. Name of Project: Cushaw Hydroelectric Project.

f. Location: On the James River in near Glasgow, Virginia, in Bedford and Amherst Counties, Virginia. The project's impoundment occupies 4.1 acres of United States Forest Service lands.

g. Filed Pursuant to: Federal Power Act 16 U.S.C. 791 (a)-825(r).

h. Applicant Contact: James Thornton, Dominion Virginia Power, 5000 Dominion Boulevard, 1 NE, Glen Allen, VA 23060 (804) 273-3257.

i. FERC Contact: Kristen Murphy, (202) 502-6236 or kristen.murphy@ferc.gov.

j. Cooperating Agencies: We are asking Federal, state, local, and tribal agencies with jurisdiction and/or special expertise with respect to environmental issues to cooperate with us in the preparation of the environmental document. Agencies who would like to request cooperating status should follow the instructions for filing such requests described in item l below. Cooperating agencies should note the Commission's policy that agencies that cooperate in the preparation of the environmental document cannot also intervene. See, 94 FERC 61,076 (2001).

k. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: August 11, 2006.

All documents (original and eight copies) should be filed with: Magalie R. Salas, Secretary, Federal Energy Regulatory Commission, 888 First Street, NE., Washington, DC 20426.

Additional study requests and requests for cooperating agency status may be filed electronically via the Internet in lieu of paper. The Commission strongly encourages electronic filings. See 18 CFR 385.2001(a)(1)(iii) and the instructions on the Commission's Web site (http://www.ferc.gov) under the “eFiling” link.

m. This application is not ready for environmental analysis at this time.

n. The Cushaw Project consists of the following features: (1) A 1,550-foot-long and 27-foot-high reinforced concrete dam extending diagonally across the James River; (2) a 138-acre reservoir at a surface elevation of 656 feet mean sea level; (3) an integral powerhouse with the dam containing five generating units with a total installed capacity of 7,500 kilowatts; (4) a 2.3-kV cable connecting the powerhouse to the Cushaw substation; and (5) appurtenant facilities. The project is operated in a run-of-river mode, and the average annual electrical generation is approximately 16,971,000 kilowatthours.

o. A copy of the application is available for review at the Commission in the Public Reference Room or may be viewed on the Commission's website at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via email of new filings and issuances related to this or other pending projects. For assistance, contact FERC Online Support.

p. With this notice, we are initiating consultation with the Virginia State Historic Preservation Officer (SHPO), as required by Section 106 of the National Historic Preservation Act, and the regulations of the Advisory Council on Historic Preservation, 36 CFR 800.4.

q. Procedural schedule and final amendments: The application will be processed according to the following Hydro Licensing Schedule. Revisions to the schedule will be made as appropriate. The Commission staff proposes to issue one environmental assessment rather than issue a draft and final EA. Comments, terms and conditions, recommendations, prescriptions, and reply comments, if any, will be addressed in an EA. Staff intents to give at least 30 days for entities to comment on the EA, and will take into consideration all comments received on the EA before final action is taken on the license application.

Issue Deficiency or Acceptance Letter: July 2006.

Issue Scoping Document 1 for comments: August 2006.

Notice of application is ready for environmental analysis: October 2006.

Notice of the availability of the EA: February 2007.

Ready for Commission's decision on the application: June 2007.

Final amendments to the application must be filed with the Commission no later than 30 days from the issuance date of the notice of ready for environmental analysis.

Magalie R. Salas,
Secretary.

[FR Doc. E6-10331 Filed 6-30-06; 8:45 am]

BILLING CODE 6717-01-P